DEPARTMENT OF HEALTH AND HUMAN SERVICES

Centers for Disease Control and Prevention

Advisory Committee to the Director (ACD), Centers for Disease Control and Prevention (CDC)—Health Disparities Subcommittee (HDS)

In accordance with section 10(a)(2) of the Federal Advisory Committee Act (Pub. L. 92-463), CDC announces the following meeting of the aforementioned subcommittee:

Time and Date: 9 a.m.-4 p.m., October 26, 2011.

Place: CDC, Thomas R. Harkin Global Communications Center, Room 117, 1600 Clifton Road, NE., Atlanta, Georgia 30333.

Status: Open to the public, limited only by the space available. The meeting room accommodates approximately 25 people. The public is welcome to participate during the public comment period, which is tentatively scheduled from 3:30 p.m. to 4 p.m. This meeting is also available by teleconference. Please dial (877) 953-5019 and enter code 5280655.

Purpose: The Subcommittee will provide advice to the CDC Director through the ACD on strategic and other health disparities and health equity issues and provide guidance on opportunities for CDC.

Matters To Be Discussed: The agenda will include the following: (1) Discussion regarding increasing minority representation in public health through CDC's Minority Undergraduate Student Program; (2) briefing and discussion on social determinants of health.

The agenda is subject to change as priorities dictate.

Contact Person for More Information: Leandris Liburd, Ph.D., M.P.H., M.A., Designated Federal Officer, HDS, ACD, CDC, 1600 Clifton Road, NE., Mailstop E-67, Atlanta, Georgia 30333, Telephone: (404) 498-2320, E-mail: LEL1@cdc.gov.

The Director, Management Analysis and Services Office, has been delegated the authority to sign Federal Register notices pertaining to announcements of meetings and other committee management activities, for both the Centers for Disease Control and Prevention and the Agency for Toxic Substances and Disease Registry.

Dated: September 30, 2011.
Catherine Ramadei,
Acting Director, Management Analysis and Services Office, Centers for Disease Control and Prevention.

[FR Doc. 2011-25842 Filed 10-5-11; 8:45 am]

BILLING CODE 4163-18-P